DEPARTMENT OF HEALTH AND HUMAN SERVICES

Health Resources and Services Administration

National Advisory Council on the National Health Service Corps; Notice of Meeting

In accordance with section 10(a)(2) of the Federal Advisory Committee Act (Pub. L. 92-463), notice is hereby given of the following meeting:

Name: National Advisory Council on the National Health Service Corps.

Dates and Times: February 28, 2008, 3 p.m.-5 p.m.; February 29, 2008, 8:30 a.m.-5 p.m.; and March 1, 2008, 9 a.m.-5 p.m.

Place: Hilton Washington DC/Rockville Executive Meeting Center, 1750 Rockville Pike, Rockville, Maryland, United States 20852-1699, Tel: 1-301-468-1100 Fax: 1-301-468-0308.

Status: The meeting will be open to the public.

Agenda: The program staff will be presenting information relative to the reorganization of the Bureau of Clinician Recruitment and Service and how the new structure will impact the implementation of the National Health Service Corps Program.

For Further Information Contact: Tira Patterson, Bureau of Clinician Recruitment and Service, Health Resources and Services Administration, Parklawn Building, Room 8A-55, 5600 Fishers Lane, Rockville, MD 20857; e-mail: TPatterson@hrsa.gov; telephone: (301) 594-4140.

Dated: January 9, 2008.
Alexandra Huttinger,
Acting Director, Division of Policy Review and Coordination.

[FR Doc. E8-581 Filed 1-14-08; 8:45 am]

BILLING CODE 4165-15-P